DEPARTMENT OF THE INTERIOR

Bureau of Land Management

[NM-080-1430-EU; Serial No. NMNM 104295]

Resource Management Plan Amendment (RMPA) and Environmental Assessment (EA) for Possible Disposal of Public Land in Eddy County, NM

AGENCY: Bureau of Land Management, DOI

SUMMARY: The Bureau of Land Management (BLM), Carlsbad Field Office, is initiating the preparation of an RMPA which will include an EA for the possible disposal by direct sale at fair market value of 40 acres of BLM-administered public land in Eddy County in southeastern New Mexico. The land is located in T. 23 S., R. 25 E., Section 12, NE¼NE¼. The RMPA will allow for direct sale of the land if that is the alternative chosen by the BLM New Mexico State Director. The public is invited to participate in the scoping process to identify issues and planning criteria to be considered in the development of the RMPA/EA. The BLM will maintain a mailing list of parties and persons interested in being kept informed about the RMPA/EA.

DATES: Comments related to this action will be accepted on or before September 18, 2000.

ADDRESSES: Comments should be sent to Bobbe Young, Lead Realty Specialist, P.O. Box 1778, Carlsbad, NM 88220.

FOR FURTHER INFORMATION CONTACT: Mary Jo Rugwell, Assistant Field Manager at (505) 234-5907 or Bobbe Young at (505) 234-5963.

SUPPLEMENTARY INFORMATION: The City of Carlsbad has proposed to acquire 40 acres of BLM-administered land adjacent to their #6 water well for expansion/upgrade to accommodate two new City reservoirs and a new disinfection station as part of the City's $20 million water/sewer bond projects. This land was identified for retention in Federal ownership in the Carlsbad RMP completed in 1988. In order to consider direct sale of the land, the RMP must be amended.

The RMPA/EA will be prepared by an interdisciplinary team of BLM resource specialists including realty, recreation, cultural, minerals, and hazardous materials specialists. Additional technical support will be provided by other specialists as needed.

Dated: July 24, 2000.
Douglas A. Melton,
Acting Field Manager.

[FR Doc. 00-19679 Filed 8-2-00; 8:45 am]

BILLING CODE 4310-33-M